AGENCY FOR INTERNATIONAL DEVELOPMENT

Notice of Public Information Collections Being Reviewed by the U.S. Agency for International Development; Comments Requested; Republication

SUMMARY: U.S. Agency for International Development (USAID) is making efforts to reduce the paperwork burden. USAID invites the general public and other Federal agencies to take this opportunity to comment on the following proposed and/or continuing information collections, as required by the Paperwork Reduction Act for 1995. Comments are requested concerning: (a) whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before May 13, 2008.

ADDRESSES: Send comments via e-mail at cpope@usaid.gov or mail comments to: Charles Pope, Office of Acquisition and Assistance, United States Agency for International Development, Ronald Reagan Building, 1300 Pennsylvania Avenue, NW., Washington, DC 20523 (202)-712-1264.

FOR FURTHER INFORMATION CONTACT: Beverly Johnson, Bureau for Management, Office of Administrative Services, Information and Records Division, United States Agency for International Development, Ronald Reagan Building, 1300 Pennsylvania Avenue, NW., Washington, DC 20523, (202) 712-1365 or via e-mail bjohnson@usaid.gov.

SUPPLEMENTARY INFORMATION: OMB No: 0412-0576.

Form No.: N/A.

Title: Security Firm Survey.

Type of Review: Renewal of Information Collection.

Purpose

It has become increasingly necessary in today's international environment for USAID to employ security firms to assist in providing a secure environment for its overseas employees. Due to the recent event involving the use of deadly force by U.S. Government contractors and/or subcontractors or subgrantees in Iraq, there is now a tremendous amount of interest in how, when and where the Government uses these private security firms. This necessity and resulting heightened scrutiny will continue for the foreseeable future.

USAID's Office of Acquisition and Assistance (“OAA”) must therefore closely monitor the types of security service contracts and agreements USAID missions enter into and how these contracts/grants are implemented. Approximately 20 missions have entered into security service contracts/agreements and most of the information OAA requests can be gathered within the mission without burdening the contractors/grantees. Missions will be instructed to contact the contractors/grantees on a limited basis only when the information cannot be obtained internally.

Annual Reporting Burden

Respondents: 20.

Total annual responses: 20.

Total annual hours requested: 60 hours.

Dated: March 5, 2008.
Joanne Paskar,
Chief, Information and Records Division, Office of Administrative Services, Bureau for Management.

[FR Doc. E8-4990 Filed 3-13-08; 8:45 am]

BILLING CODE 6116-01-M